ENVIRONMENTAL PROTECTION AGENCY

[EPA-HQ-OPPT-2014-0463; FRL-9914-43]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from February 1, 2014 to March 31, 2014.

DATES: Comments identified by the specific PMN number or TME number, must be received on or before October 16, 2014.

ADDRESSES: Submit your comments, identified by docket identification (ID) number EPA-HQ-OPPT-2014-0463, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Management Division (7407M), Office of Pollution Prevention and Toxics, Environmental Protection Agency, 1200 Pennsylvania Ave. NW., Washington, DC 20460-0001; telephone number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the agency taking?

This document provides receipt and status reports, which cover the period from February 1, 2014 to March 31, 2014, and consists of the PMNs pending and/or expired, and the NOCs to manufacture a new chemical that the Agency has received under TSCA section 5 during this time period.

III. What is the agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table 1—155 PMNs Received From 2/1/14 to 3/31/14
Case No. | Received date | Projected notice end date | Manufacturer/ importer | Use | Chemical
P-14-0300 | 2/3/2014 | 5/4/2014 | CBI | (S) Crosslinking Agent for Thermoset Resins | (G) Substituted polysiloxane.
P-14-0301 | 2/3/2014 | 5/4/2014 | Alberdingk Boley Inc | (S) For wood and plastic | (G) Alkanedioic acid, polymer with alkanediol, hydroxy-(hydroxymethyl)-2-alkylcarboxylic acid, methylenebis[isocyanatocycloalkane] and alkyl-2-alkylalkenoate, compound with alkyl morpholine.
P-14-0302 | 2/3/2014 | 5/4/2014 | Alberdingk Boley Inc | (S) For wood and plastic | (G) Alkanedioic acid, polymer with dialkyl carbonate, alkanediol, hydroxy-(hydroxymethyl)-2-alkylcarboxylic acid, methylenebis[isocyanatocycloalkane] and alkyl-2-alkenoate, compound With N,N-dialkylalkylamine.
P-14-0303 | 2/3/2014 | 5/4/2014 | Alberdingk Boley Inc | (S) For wood and plastic | (G) Alkanedioic acid, polymer with 2,2-dimethyl-1,3-propanediol, hydroxy-(hydroxymethyl)-2-alkylcarboxylic acid, alkanediol, methylenebis[isocyanatocycloalkane] and alkyl-2-alkyl-alkenoate, compound With alkylylmorpholine.
P-14-0304 | 2/3/2014 | 5/4/2014 | Alberdingk Boley Inc | (S) For wood and plastic | (G) Alkanedioic acid, polymer with N-(1,1-dimethyl-3-oxobutyl)-2-propenamide, 1,6-hexanediol, hydroxy-(hydroxymethyl)-2-alkyl carboxylic acid, methylenebis[isocyanatocycloalkane] and alkyl-2-alkyl-alkenoate, compd. With N,N-dialkylalkylamine.
P-14-0305 | 2/3/2014 | 5/4/2014 | Alberdingk Boley Inc | (S) For wood and plastic | (G) Alkanedioic acid, polymer with N-(1,1-dimethyl-3-oxobutyl)-2-propenamide,1,2-alkanediol,1,6-hexanediol, hydroxy-(hydroxymethyl)-2- alkycarboxylic acid, methylenebis[isocyanatocycloalkane] and alkyll 2-alkyl-alkenoate, compd. With N,N-dialkylalkylamine.
P-14-0306 | 2/4/2014 | 5/5/2014 | CBI | (G) P0184T is used as a lubricant additive | (G) Alklyl borate ester.
P-14-0307 | 2/4/2014 | 5/5/2014 | CBI | (S) Fluorinated acrylic terpolymer used as a wetting, levelling and flow control agent for solvent and free and solvent based coatings and paints | (G) Fluorinated acrylic terpolymer.
P-14-0308 | 2/4/2014 | 5/5/2014 | Solazyme, Inc | (G) Industrial feedstock chemical | (G) Algal biomass from fermentation.
P-14-0309 | 2/5/2014 | 5/6/2014 | CBI | (S) Dispersent | (G) 2-Butenoic acid, 4-amino-4-oxo-, (Z), polymer with alkyl modified alkene, ammonium salt.
P-14-0310 | 2/5/2014 | 5/6/2014 | CBI | (G) The product will be used in as a demulsifier in crude oil emulsions in field oil operations and desalter in crude oil refiners | (G) Modified polymeric alkoxylate.
P-14-0311 | 2/5/2014 | 5/6/2014 | CBI | (G) Additive for plastic | (G) Hindered phenol amide compounds.
P-14-0312 | 2/6/2014 | 5/7/2014 | Solazyme, Inc | (G) Industrial feedstock chemical | (G) Algal biomass from fermentation.
P-14-0313 | 2/7/2014 | 5/8/2014 | CBI | (G) Textile coating | (G) Aliphatic Polyurethane Resin.
P-14-0314 | 2/7/2014 | 5/8/2014 | CBI | (G) Industrial flame retardant | (G) Poly aliphatic phosphate.
P-14-0315 | 2/7/2014 | 5/8/2014 | CBI | (G) Intermediate | (G) Substituted carbomonocycle.
P-14-0316 | 2/7/2014 | 5/8/2014 | CBI | (S) Catalyst for use in polyurethane coatings | (G) Substituted bismuth.
P-14-0320 | 2/10/2014 | 5/11/2014 | Innovative Resin Systems | (G) Epoxy adhesive flexibilizer | (G) Phenol capped uretnane prepolymer.
P-14-0321 | 2/10/2014 | 5/11/2014 | CBI | (G) Site-limited isolated and recycled intermediate | (G) Hydrochlorofluoropropene.
P-14-0322 | 2/10/2014 | 5/11/2014 | Innovative Resin Systems | (G) Epoxy adhesive Flexibilizer | (G) Capped urethane prepolymer.
P-14-0323 | 2/10/2014 | 5/11/2014 | CBI | (G) Site-limited, isolated and recycled intermediate | (G) Hydrochlorofluoropropene.
P-14-0324 | 2/10/2014 | 5/11/2014 | CBI | (G) Lubricating oil additive | (G) Fatty ester derivatives, reaction products with alkanolamine, hydroxylated, borated.
P-14-0326 | 2/10/2014 | 5/11/2014 | CBI | (G) Emulsifier | (G) Maleaic adduct of fatty acids.
P-14-0327 | 2/10/2014 | 5/11/2014 | CBI | (G) emulsifier | (G) Maleic adduct of glyceridic compounds.
P-14-0328 | 2/10/2014 | 5/11/2014 | CBI | (G) Emulsifier | (G) Maleaic adduct of fatty acids.
P-14-0329 | 2/10/2014 | 5/11/2014 | CBI | (G) Emulsifier | (G) Maleaic adduct of fatty acids.
P-14-0330 | 2/10/2014 | 5/11/2014 | CBI | (G) Emulsifier | (G) Maleaic adduct of fatty acids.
P-14-0331 | 2/11/2014 | 5/12/2014 | CBI | (G) Rhelogy control polymer additive | (G) 2-Propenoic acid, alkyl ester, polymer with butyl 2-propenoate and 1-ethenyl-2-pyrrolidinone.
P-14-0332 | 2/11/2014 | 5/12/2014 | DIC International (USA) LLC | (G) Lamination with plastic sheets or textiles | (G) Polyester/polyether-type-polyurethane resin.
P-14-0333 | 2/13/2014 | 5/14/2014 | CBI | (G) Monomer | (G) Acrylic acid alkyl ester.
P-14-0334 | 2/13/2014 | 5/14/2014 | CBI | (G) Monomer | (G) Methacrylic acid alkyl ester.
P-14-0335 | 2/13/2014 | 5/14/2014 | CBI | (S) Surfactant for use in asphalt emulsions | (G) Lignin amine salt.
P-14-0336 | 2/14/2014 | 5/15/2014 | CBI | (S) Polyester for polyurethane production | (S) Dodecanedioic acid, polymer with 2,2-dimethyl-1,3-propanediol.
P-14-0337 | 2/14/2014 | 5/15/2014 | CBI | (S) Plastic coating compounds | (S) Poly(oxy(methyl-1,2-ethanediyl)], .alpha.-hydro-.omega.-hydroxy-, polymer with 1,6-diisocyanatohexane and 1,1′-methylenebis[4-isocyanatocyclohexane], caprolactam- and polyethylene glycol mono-me ether-blocked.
P-14-0339 | 2/14/2014 | 5/15/2014 | CBI | (S) Plastic coating compounds | (S) Hexanedioic acid, polymer with 1,3-bis(1-isocyanato-1-methylethyl)benzene, 1,4-butanediol, 2,2-dimethyl-1,3-propanediol, 1,6-hexanediol, hydrazine, 3-hydroxy-2-(hydroxymethyl)-2-methylpropanoic acid and 5-isocyanato-1-(isocyanatomethyl)-1,3,3-trimethylcyclohexane, compd. with N,N-diethylethanamine.
P-14-0340 | 2/14/2014 | 5/15/2014 | CBI | (G) Consumer liquid coatings | (G) 2-Propenoic acid, 2-methyl-, functionalized alkyl ester polymer with butyl 2-propenoate and methyl 2-methyl-2-propenoate.
P-14-0341 | 2/15/2014 | 5/16/2014 | CBI | (G) Contained use (production of mineral wool products) | (G) Alkanolamine-acid-anhydride reaction product (AAA reaction product).
P-14-0342 | 2/18/2014 | 5/19/2014 | CBI | (G) Additive for gasoline | (G) Alkoxylated alcohol.
P-14-0343 | 2/17/2014 | 5/18/2014 | CBI | (G) Component of polymer additive | (G) Akyl diol, polymer with alkyldiisocyanate, .alpha-hydro-.omega. hydroxypoly(oxy-alkyldiyl), alkyloxirane, oxirane ether with diol.
P-14-0344 | 2/18/2014 | 5/19/2014 | CBI | (G) Binder resin for automotive coatings | (G) Alkyl methacrylate polymer with cyclomethacrylate, vinyl monomer, hydroxyl methacrylate and sec-hydroxy methacrylate, peroxide initiated.
P-14-0345 | 2/18/2014 | 5/19/2014 | CBI | (G) Binder resin for automotive coatings | (G) Alkyl methacrylate polymer with cyclomethacrylate, vinyl monomer, hydroxyl methacrylate, sec-hydroxy methacrylate and acid monomer,peroxide initiated.
P-14-0346 | 2/18/2014 | 5/19/2014 | CBI | (G) Chemical for semiconductor manufacture | (G) Polyester with triazine.
P-14-0347 | 2/17/2014 | 5/18/2014 | CBI | (G) Additive for resin | (G) Isocyanic acid, polymethylenepolyphenylene ester, polymer with -hydro—hydroxypoly[oxy(alkyl-1,2-ethanediyl)] and ,'-[(methylimino)di-2,1- ethanediyl]bis[-hydroxypoly[oxy(alkyl-1,2-ethanediyl)]], acetate (salt) sulfamate (salt).
P-14-0348 | 2/17/2014 | 5/18/2014 | CBI | (G) Additive for resin | (G) Isocyanic acid, polymethylenepolyphenylene ester, polymer with -hydro—hydroxypoly[oxy(alkyl-1,2-ethanediyl)] and ,'-[(methylimino)di-2,1- ethanediyl]bis[-hydroxypoly[oxy(alkyl-1,2-ethanediyl)]], acetate (salt) sulfamate (salt).
P-14-0349 | 2/17/2014 | 5/18/2014 | CBI | (G) Additive for resin | (G) Formic acid, compd. with -hydro—hydroxypoly[oxy(alkyl-1,2-ethanediyl)] polymer with ,'-[(methylimino)di-2,1-ethanediyl]bis[-hydroxypoly[oxy(alkyl-1,2-ethanediyl)]] and polymethylenepolyphenylene isocyanate.
P-14-0350 | 2/17/2014 | 5/18/2014 | CBI | (G) Additive for resin | (G) Propanoic acid,2-hydroxy compd. with -hydro—hydroxypoly[oxy(alkyl-1,2-ethanediyl)] polymer with ,'-[(methylimino)di-2,1-ethanediyl]bis[- hydroxypoly[oxy(alkyl-1,2-ethanediyl)]] and polymethylenepolyphenylene isocyanate.
P-14-0351 | 2/18/2014 | 5/19/2014 | CBI | (G) Coating agent for electronics | (G) Epoxy compounded acrylate polymer.
P-14-0352 | 2/17/2014 | 5/18/2014 | MANE USA | (S) Fragrance in a household consumer product | (S) 4H-1,3-Benzodioxin, hexahydro-4-methyl-2-(phenylmethyl)-.
P-14-0352 | 2/17/2014 | 5/18/2014 | MANE USA | (S) Fragrance in a consumer product | (S) 4H-1,3-Benzodioxin, hexahydro-4-methyl-2-(phenylmethyl)-.
P-14-0352 | 2/17/2014 | 5/18/2014 | MANE USA | (S) Fragrance used in a fine fragrance | (S) 4H-1,3-Benzodioxin, hexahydro-4-methyl-2-(phenylmethyl)-.
P-14-0353 | 2/18/2014 | 5/19/2014 | CBI | (S) Leather coating | (S) Hexanedioic acid, polymer with 1,4-butanediol, 3-hydroxy-2-(hydroxymethyl)-2-methylpropanoic acid and 1,1'-methylenebis[4-isocyanatocyclohexane], compound with N,N-diethylethanamine.
P-14-0354 | 2/19/2014 | 5/20/2014 | InfiGreen Polymers | (S) Polyol intermediate for use in ridged polyurethane foam | (G) Depolymerized polyurethane.
P-14-0355 | 2/19/2014 | 5/20/2014 | MANE USA | (S) Fragrance used in a fine fragrance; fragrance in a consumer product | (S) 4H-1,3-benzodioxin, hexahydro-4-methyl-2-(phenylmethyl)-.
P-14-0356 | 2/20/2014 | 5/21/2014 | CBI | (G) Lubricant additive | (G) Sulfurized olefin and oil.
P-14-0357 | 2/20/2014 | 5/21/2014 | DIC International (USA) LLC | (G) Lamination with plastic sheets or textiles | (G) Isocyanate-terminated urethane prepolymer.
P-14-0358 | 2/20/2014 | 5/21/2014 | CBI | (G) Lubricant additive | (G) Sulfurized olefin and oil.
P-14-0359 | 2/20/2014 | 5/21/2014 | CBI | (G) Lubricant additive | (G) Sulfurized olefin and oil.
P-14-0360 | 2/24/2014 | 5/25/2014 | CBI | (G) Destructive and contained use | (G) Substituted polyheterocycle.
P-14-0361 | 2/24/2014 | 5/25/2014 | CBI | (G) Destructive and contained use | (G) (substitutedhydroaromatic) heteropolycyclic.
P-14-0362 | 2/24/2014 | 5/25/2014 | CBI | (G) Destructive and contained use | (G) Metal, disubstituted [poly(substitutedhydroaromatic)heteropolycyclic].
P-14-0363 | 2/24/2014 | 5/25/2014 | CBI | (G) Destructive and contained use | (G) (substitutedhydroaromatic) heteropolycyclic.
P-14-0364 | 2/24/2014 | 5/25/2014 | Ethox Chemicals, LLC | (S) A reactive emulsifier for manufacturing aqueous emulsion polymers or alkyd resins. Dispersant for pigments in aqueous or solvent-based coatings. Intermediate for production of related anionic dispersants | (S) Phenol, styrenated, reaction products with polyethylene glycol and 2-[(2-propen-1-yloxy)methyl]oxirane.
P-14-0365 | 2/24/2014 | 5/25/2014 | Ethox Chemicals, LLC | (S) A reactive emulsifier for manufacturing aqueous emulsion polymers or alkyd resins. Dispersant for pigments in aqueous or solvent-based coatings. Intermediate for production of related anionic dispersants | (S) Phenol, styrenated, reaction products with polyethylene glycol and 2-[(2-propen-1-yloxy)methyl]oxirane.
P-14-0366 | 2/24/2014 | 5/25/2014 | CBI | (G) Destructive and contained use | (G) Metal, (substitutedhydroaromatic) heteropolycyclic.
P-14-0367 | 2/25/2014 | 5/26/2014 | Ethox Chemicals, LLC | (S) A reactive emulsifier for manufacturing aqueous emulsion polymers or alkyd resins. dispersant for pigment in aqueous or solvent-based coatings | (S) Phenol, styrenated, reaction products with polyethylene glycol phosphate ammonium salt and 2-[(2-propen-1-yloxy)methyl]oxirane.
P-14-0368 | 2/25/2014 | 5/26/2014 | Ethox Chemicals, LLC | (S) A reactive emulsifier for manufacturing aqueous emulsion polymers or alkyd resins. dispersant for pigment in aqueous or solvent-based coatings | (S) Phenol, styrenated, reaction products with polyethylene glycol mono(hydrogen sulfate) monoammonium salt and 2-[(2-propen-1-yloxy)methyl]oxirane.
P-14-0369 | 2/25/2014 | 5/26/2014 | Ethox Chemicals, LLC | (S) A reactive emulsifier for manufacturing aqueous emulsion polymers or alkyd resins. dispersant for pigment in aqueous or solvent-based coatings | (S) Phenol, styrenated, reaction products with polyethylene glycol mono(hydrogen sulfate) monoammonium salt and 2-[(2-propen-1-yloxy)methyl]oxirane.
P-14-0370 | 2/25/2014 | 5/26/2014 | DIC International (USA) LLC | (G) A coating polymer | (G) Acrylic esters and methacrylic esters epoxy resin.
P-14-0371 | 2/26/2014 | 5/27/2014 | CBI | (S) Flame retardant for plastics | (G) Polysulfone.
P-14-0372 | 2/26/2014 | 5/27/2014 | InfiGreen Polymers | (S) Polyol intermediate for use in ridged Polyurethane foam | (G) Depolymerized Polyurethane.
P-14-0372 | 2/26/2014 | 5/27/2014 | InfiGreen Polymers | (S) Polyol intermediate for use in flexible Polyurethane foam | (G) Depolymerized Polyurethane.
P-14-0373 | 2/26/2014 | 5/27/2014 | CBI | (G) Floor coatings | (G) Polyacrylate.
P-14-0374 | 2/27/2014 | 5/28/2014 | CBI | (S) Sulfurized fatty acid derivative used as an extreme pressure/anti-wear additive for metal cutting/drilling applications | (G) Sulfurized fatty acid derivative.
P-14-0376 | 2/27/2014 | 5/28/2014 | CBI | (G) Additive in WaterBorne Coating | (G) Fatty acids, tall-oil, compounds with Heteromonocyclic monomer-2-ethylhexyl acrylate-2-hydroxyethyl methacrylate- Alkyl ether monomer.
P-14-0377 | 2/28/2014 | 5/29/2014 | CBI | (G) Additive, open, non-dispersive use | (G) Reaction product of acidic polymers with amino silanes.
P-14-0378 | 2/28/2014 | 5/29/2014 | CBI | (G) The product will be used in as a demulsifier in crude oil field operations and a desalter in crude oil refiniers | (G) Modified Polymeric Alkoxylate.
P-14-0380 | 3/3/2014 | 6/1/2014 | Huntsman | (G) Resin | (G) Aromatic monophenol, reaction products with aniline and formaldehyde.
P-14-0381 | 3/3/2014 | 6/1/2014 | CBI | (S) Dispersent | (G) 2,5-furandione, polymer with alkyl modified alkene, reaction products with ammonium hydroxide.
P-14-0382 | 2/28/2014 | 5/29/2014 | PTC Organies Inc | (G) Cleaning component for fuels | (G) quaternary ammonium compounds, tri-C8-10-alkylmethyl, hydrogen sulfates.
P-14-0383 | 3/3/2014 | 6/1/2014 | Shell Chemical LP | (S) Coatings; cleaning fluids; agrochemicals; metal working fluids/rolling oils; sold as intermediate | (S) Alkanes, C8-11-branched and linear.
P-14-0384 | 3/3/2014 | 6/1/2014 | Shell Chemical LP | (S) Coatings, cleaning fluids, agrochemicals, metal working fluids, rollings oils | (S) Alkanes, C9-12 branched and linear.
P-14-0385 | 3/3/2014 | 6/1/2014 | Shell Chemical LP | (S) Coatings, cleaning fluids, agrochemicals, metal working fluids, rollings oils | (S) Alkanes, C9-13 branched and linear.
P-14-0386 | 3/3/2014 | 6/1/2014 | Shell Chemical LP | (S) Coatings, cleaning fluids, agrochemicals, metal working fluids, rollings oils | (S) Alkanes, C10-13 branched and linear.
P-14-0387 | 3/3/2014 | 6/1/2014 | Shell Chemical LP | (S) Coatings, cleaning fluids, agrochemicals, metal working fluids, rollings oils | (S) Alkanes, C12-15 branched and linear.
P-14-0388 | 3/3/2014 | 6/1/2014 | Shell Chemical LP | (S) Coatings, cleaning fluids, agrochemicals, metal working fluids, rollings oils | (S) Alkanes, C14-16 branched and linear.
P-14-0389 | 3/3/2014 | 6/1/2014 | Shell Chemical LP | (S) Paint and coating; cleaning and inks; electronics; other solvents | (S) 2-propanol, 1-ethoxy-, 2-acetate.
P-14-0390 | 2/28/2014 | 5/29/2014 | Cray Valley USA, LLC | (G) Additive for filler dispersion and/or property enhancement in thermoplastic and rubber compounds | (G) Maleated Resin, half-ester.
P-14-0391 | 2/28/2014 | 5/29/2014 | Cray Valley USA, LLC | (G) Additive for filler dispersion and/or property enhancement in thermoplastic and rubber compounds | (G) Maleated Resin, half-ester.
P-14-0392 | 3/4/2014 | 6/2/2014 | CBI | (G) Resin used to fabricate plastic components | (G) Modified starch copolymer.
P-14-0393 | 3/4/2014 | 6/2/2014 | CBI | (G) Resin used to fabricate plastic components | (G) Modified starch copolymer.
P-14-0394 | 3/4/2014 | 6/2/2014 | Reichhold Inc | (S) Wood coatings; plastic coatings; concrete coatings | (G) Amine salt of acrylic acid, polymer with alkanedioic acid, epoxy, hydroxy substituted carboxylic acid, alkanediol, aliphatic diisocyanate, hydroxy ester acrylate and cyclic carboxylic acid.
P-14-0395 | 3/4/2014 | 6/2/2014 | CBI | (G) Detergent additive | (S) 1,2,3,-propanetriol, homoploymer, dodecanoate.
P-14-0396 | 3/5/2014 | 6/3/2014 | CBI | (G) Transportation undercoat | (G) Polymer of vegetable oil, aliphatic polyols, and aromatic acids.
P-14-0397 | 3/6/2014 | 6/4/2014 | CBI | (S) A plasticizer in adhesives for food-product packaging | (S) Benzenepropanol, 1-benzoate.
P-14-0400 | 3/7/2014 | 6/5/2014 | CBI | (G) Foam suppressant | (G) Substituted acid, electrophilic aromatic substitution products.
P-14-0401 | 3/7/2014 | 6/5/2014 | Huntsman Corporation | (S) Emollient, emulsifier, and foam builder for personal care | (S) Fats and glyceridic oils, avocado, esters with polyethylene glycol ether with glycerol (3:1).
P-14-0402 | 3/7/2014 | 6/5/2014 | Huntsman Corporation | (S) Emollient, emulsifier, and foam builder for personal care | (S) Coconut oil, ester with polyethylene glycol ether with glycerol (3:1).
P-14-0403 | 3/7/2014 | 6/5/2014 | Huntsman Corporation | (S) Emollient, emulsifier, and foam builder for personal care | (S) Olive oil, ester with polyethylene glycol ether with glycerol (3:1).
P-14-0404 | 3/7/2014 | 6/5/2014 | Huntsman Corporation | (S) Emollient, emulsifier, and foam builder for personal care | (S) Soybean oil, ester with polyethylene glycol ether with glycerol (3:1).
P-14-0405 | 3/7/2014 | 6/5/2014 | Huntsman Corporation | (S) Emollient, emulsifier, and foam builder for personal care | (S) Oils, palm kernel, esters with polyethylene glycol ether with glycerol (3:1).
P-14-0406 | 3/7/2014 | 6/5/2014 | Huntsman Corporation | (S) Emollient, emulsifier, and foam builder for personal care products | (S) Oils, palm, esters with polyethylene glycol ether with glycerol (3:1).
P-14-0407 | 3/7/2014 | 6/5/2014 | Cardolite corporation | (S) Epoxy binder for coatings application | (S) Cashew, nutshell liquid (liq.), polymer with Bisphenol A, epichlorohydrin, ethylenediamine, formaldehyde and 2-[[3-(trimethyoxysilyl)propoxyl]methyl]oxirane.
P-14-0408 | 3/10/2014 | 6/8/2014 | CBI | (S) Plastic coating compounds | (S) 1,3-Benzenedicarboxylic acid, polymer with 1,2-ethanediamine, hexanedioic acid, 1,6-hexanediol, 3-hydroxy-2- (hydroxymethyl)-2-methylpropanoic acid and 5-isocyanato-1-(isocyanatomethyl)-1,3,3-trimethyl-cyclohexane, iso- Bu alc.-blocked, compounds with 2-(dimethylamino)-ethanol.
P-14-0409 | 3/10/2014 | 6/8/2014 | CBI | (S) Plastic coatings | (S) Propanoic acid, 3-hydroxy-2-(hydroxymethyl)-2-methyl-, polymer with hydrazine, a-hydro-w-hydroxypoly[oxy(methyl -1,2-ethanediyl)] and 5-isocyanato-1-(isocyanatomethyl)-1,3,3-trimethylcyclohexane, compound with N,N diethylethanamine.
P-14-0410 | 3/10/2014 | 6/8/2014 | Cardolite Corporation | (S) Curing agent for industrial coatings formulations | (G) Fatty acids, C18-unsaturated (unsatd.), dimers, polymers with ammonia-ethanolamine reaction by-product.
P-14-0411 | 3/10/2014 | 6/8/2014 | Natural Plant Products | (S) Used as an emollient in cosmetics and personal care products | (S) Fats and glyceridic oils, limnanthes alba seed.
P-14-0412 | 3/12/2014 | 6/10/2014 | CBI | (G) Component of polymer additive | (G) Akyl diol, polymer with alkyldiisocyanate, .alpha-hydro-.omega. hydroxypoly(oxy-alkyldiyl), alkyloxirane, oxirane ether with diol.
P-14-0413 | 3/12/2014 | 6/10/2014 | CBI | (G) Insulator | (G) Surface modified clay.
P-14-0416 | 3/17/2014 | 6/15/2014 | CBI | (G) The polyurethane resin will be part of a coating product used for automotive applications | (G) Polyurethane.
P-14-0417 | 3/17/2014 | 6/15/2014 | CBI | (G) Solvent for ink | (G) Aliphatic ether alcohol.
P-14-0418 | 3/17/2014 | 6/15/2014 | CBI | (G) Polymer in inkjet ink | (G) Styrene-methacrylate copolymer.
P-14-0420 | 3/18/2014 | 6/16/2014 | CBI | (G) Destructive and contained use | (G) Metal, (substituted hydroaromatic)heteropolycyclic derivative.
P-14-0421 | 3/18/2014 | 6/16/2014 | CBI | (G) Adhesive for open non-descriptive use | (G) Isocyanate terminated polyurethane polymer.
P-14-0423 | 3/18/2014 | 6/16/2014 | Henkel Corporation | (S) A soluble photoinitiator in ultra violet (uv) curable silicone formulations | (S) 1-propanone, 2-methyl-1-phenyl-2-[[1,3,3,3-tetramethyl-1-[(trimethylsilyl)oxy]-1-disiloxanyl]oxy]-.
P-14-0424 | 3/19/2014 | 6/17/2014 | Henkel Corporation | (S) A polymerizable component of novel sealant formulations | (S) Siloxanes and silicones, di-me, mono[[dimethoxy[3-[(1-oxo-2-propen-1-yl)oxy]propyl]silyl]oxy]-terminated.
P-14-0425 | 3/19/2014 | 6/17/2014 | Cardolite Corporation | (S) Epoxy curing agent for light color coatings | (G) Fatty acids, C18-unsaturated, dimers, polymers with cashew nutshell liq., glycidyl ethers.
P-14-0426 | 3/19/2014 | 6/17/2014 | CBI | (G) Component of foam insulation | (G) Polyester polyol.
P-14-0427 | 3/19/2014 | 6/17/2014 | CBI | (G) Catalyst used in closed process | (S) Nitrile-hydratase.
P-14-0428 | 3/19/2014 | 6/17/2014 | CBI | (S) Emulsifier intermediate for use in asphalt applications | (G) Fatty acid amide.
P-14-0428 | 3/19/2014 | 6/17/2014 | CBI | (S) Adhesion promoter for use in asphalt applications | (G) Fatty acid amide.
P-14-0429 | 3/19/2014 | 6/17/2014 | CBI | (S) Adhesion promoter for use in asphalt applications | (G) Fatty acid amide.
P-14-0429 | 3/19/2014 | 6/17/2014 | CBI | (S) Emulsifier intermediate for use in asphalt applications | (G) Fatty acid amide.
P-14-0430 | 3/19/2014 | 6/17/2014 | CBI | (S) Emulsifier intermediate for use in asphalt applications | (G) Fatty acid amide.
P-14-0430 | 3/19/2014 | 6/17/2014 | CBI | (S) Adhesion promoter for use in asphalt applications | (G) Fatty acid amide.
P-14-0431 | 3/19/2014 | 6/17/2014 | CBI | (S) Adhesion promoter for use in asphalt applications | (G) Fatty acid amide.
P-14-0431 | 3/19/2014 | 6/17/2014 | CBI | (S) Emulsifier intermediate for use in asphalt applications | (G) Fatty acid amide.
P-14-0432 | 3/19/2014 | 6/17/2014 | DIC International (USA) LLC | (G) Adhesive | (G) Isocyanate-terminated urethane prepolymer.
P-14-0433 | 3/20/2014 | 6/18/2014 | DIC International (USA) LLC | (G) Adhesive | (G) Isocyanate-terminated urethane prepolymer.
P-14-0434 | 3/20/2014 | 6/18/2014 | CBI | (G) Coating ingredient for plastics | (G) Polyacrylate.
P-14-0435 | 3/21/2014 | 6/19/2014 | Allnex USA Inc | (G) Coating resin | (G) Substituted fatty acids, polymers with alkanedioic acid, substituted carbomonocycles, alkanediol, substituted alkanoate, compounds with alkylamine.
P-14-0436 | 3/21/2014 | 6/19/2014 | Shepherd Chemical | (G) Polymer additive | (G) N ′,N ′,N ′,N ′-tetrakis-(2-hydroxypropyl) ethylene-diamine coordinated with bismuth neodecanoate. excess N ′,N ′,N ′,N ′-tetrakis-(2-hydroxypropyl) ethylenediamine over stoichiometric ratio to improve hydrolysis of bismuth ligands.
P-14-0437 | 3/21/2014 | 6/19/2014 | H.B. Fuller Company | (G) Industrial adhesive | (G) 2-propenoic acid, alkyl ester, telomer with alkanethiol, ethenyl acetate and 2-hydroxyethyl 2-propenoate.
P-14-0438 | 3/21/2014 | 6/19/2014 | CBI | (G) Lubricant | (G) Trialkyl substituted carboxylic acid, mixed esters with alkyl substituted carboxylic acid and polyol.
P-14-0439 | 3/24/2014 | 6/22/2014 | CBI | (G) Chemical intermediate | (G) Aryl-substituted amide.
P-14-0440 | 3/24/2014 | 6/22/2014 | CBI | (G) Catalyst | (G) Arylalkylphosphonium salt.
P-14-0441 | 3/24/2014 | 6/22/2014 | CBI | (G) Processing aid in advanced printing technologies | (G) Heterocylic dione polymer with alkenylbenzene and alkoxpoly(oxy-alkanediyl)alkylacrylate.
P-14-0443 | 3/24/2014 | 6/22/2014 | CBI | (S) Crosslinker for automotive coating; crosslinker for wood and plastic coatings | (G) Alkane-alpha,omega-diyl bis{[(trimethoxysilyl)propyl]carbamate}.
P-14-0444 | 3/24/2014 | 6/22/2014 | CBI | (S) Crosslinker for automotive; crosslinker for wood and plastic | (G) Polyurethane, trimethoxysilyl terminated.
P-14-0445 | 3/24/2014 | 6/22/2014 | CBI | (G) Water-soluble packaging | (G) Modified polyvinyl alcohol.
P-14-0446 | 3/25/2014 | 6/23/2014 | CBI | (G) Destructive | (G) Styrene-maleinate-acrylate terpolymer.
P-14-0447 | 3/25/2014 | 6/23/2014 | Sasol North America Inc | (S) Formulation of defoamers used in the production of paper | (S) Alcohols, C18-22, distinguishing (distn.) residues.
P-14-0448 | 3/25/2014 | 6/23/2014 | Sasol North America Inc | (S) Formulation of defoamers used in the production of paper | (S) Alcohols, C12-22, distn. residues.
P-14-0449 | 3/25/2014 | 6/23/2014 | CBI | (G) Crosslinker for coatings | (G) Polyurethane dispersion.
P-14-0450 | 3/25/2014 | 6/23/2014 | Evonik Degussa Corporation | (G) Building protection applications and mineral treatment applications | (G) Potassium siliconate.
P-14-0452 | 3/27/2014 | 6/25/2014 | DIC International (USA) LLC | (G) Matrix resin for composite materials binder resin for electronic materials | (G) Naphthalene type multi-functional epoxy resin.
P-14-0454 | 3/28/2014 | 6/26/2014 | CBI | (G) Adhesive | (G) Urethane-polyol polymer.
P-14-0455 | 3/31/2014 | 6/29/2014 | CBI | (G) Electro coat resin | (G) Formic acid, compounds (compds.) with bisphenol A-cyclohexanamine-N1,N1-dimethyl-1,3-propanediamine-epichlorohydrin-polyethylene glycol ether with bisphenol A (2:1) polymer-cyclic guanidine-2-(methylamino) ethanol reaction products.
P-14-0456 | 3/31/2014 | 6/29/2014 | CBI | (G) Electro coat resin | (G) Phenol, 4,4′-(1-methylethylidene)bis-, polymer with 2-(chloromethyl)oxirane, cyclohexanamine, N1,N1-dimethyl-1,3-propanediamine and ,'-[(1-methylethylidene)di-4,1-phenylene]bis[-hydroxypoly(oxy-1,2-ethanediyl)], reaction products with cyclic guanidine and 2-(methylamino) ethanol, acetates (salts).
P-14-0457 | 3/31/2014 | 6/29/2014 | CBI | (G) Electro coat resin | (G) Propanoic acid, 2-hydroxy-, compounds with bisphenol A-cyclohexanamine-N1,N1-dimethyl-1,3-propanediamine-epichlorohydrin-polyethylene glycol ether with Bisphenol A (2:1) polymer-cyclic guanidine-2-(methylamino)ethanol reaction products.
P-14-0458 | 3/31/2014 | 6/29/2014 | CBI | (G) Electro coat resin | (G) Formic acid, compounds with Bisphenol A-cyclohexanamine-alkyldiamine-epichlorohydrin-polyethylene glycol ether with bisphenol A (2:1) polymer-2-(methylamino) ethanol reaction products.
P-14-0459 | 3/31/2014 | 6/29/2014 | CBI | (G) Electro Coat Resin | (G) Phenol, 4,4′-(1-methylethylidene)bis-, polymer with 2-(chloromethyl)oxirane, cyclohexanamine, alkyldiamine and ,'-[(1-methylethylidene)di-4,1-phenylene]bis[-hydroxypoly(oxy-1,2-ethanediyl)], reaction products with 2-(methylamino) ethanol, acetates (salts).
P-14-0460 | 3/31/2014 | 6/29/2014 | CBI | (G) Electro coat resin | (G) Propanoic acid, 2-hydroxy-, compounds with Bisphenol A-cyclohexanamine-alkyldiamine-epichlorohydrin-polyethylene glycol ether with Bisphenol A (2:1) polymer-2-(methylamino)ethanol reaction products.
P-14-0461 | 3/31/2014 | 6/29/2014 | CBI | (G) Open, non-dispersive | (G) Blocked polyisocyanate polymer.
P-14-0462 | 3/31/2014 | 6/29/2014 | CBI | (G) Open, non-dispersive | (G) Blocked polyisocyanate polymer.
P-14-0463 | 3/31/2014 | 6/29/2014 | CBI | (G) Industrial emulsifier | (G) Butanedioic acid, monopolyisobutylene derivs., bis[2-[(2-hydroxyethyl)alkylamino)alkylamino]ethyl] esters.
P-14-0464 | 3/31/2014 | 6/29/2014 | CBI | (S) Flame retardant for plastics | (G) Polysulfone.

In Table II. of this unit, EPA provides the following information (to the extent that such information is not claimed as CBI) on the NOCs received by EPA during this period: The EPA case number assigned to the NOC, the date the NOC was received by EPA, the projected end date for EPA's review of the NOC, and chemical identity.

Table II—156 NOCs Received From 2/1/14 to 3/31/14
Case No. | Received date | Commencement notice end date | Chemical
J-13-0030 | 3/5/2014 | 2/14/2014 | (G) Microorganism modified.
J-14-0004 | 5/19/2014 | 5/17/2014 | (S) As labeled in the MCAN, genetically modified yeast YD01345 commercial identifier YD11413.
P-00-1086 | 11/13/13 | 10/10/2013 | (G) Potassium amide salt.
P-03-0101 | 7/31/2013 | 7/19/2013 | (G) Aliphatic ester.
P-03-0102 | 7/31/2013 | 7/19/2013 | (G) Aliphatic esters.
P-03-0769 | 3/21/2014 | 4/7/2014 | (G) Acrylate copolymer.
P-03-0852 | 7/31/2013 | 7/19/2013 | (S) Fatty acids, C18-unsaturated, dimers, polymers with isostearic acid and neopentyl glycol.
P-03-0853 | 7/31/2013 | 7/19/2013 | (S) Fatty acids, C18-unsaturated, dimers, polymers with neopentyl glycol and oleic acid.
P-04-0318 | 2/4/2014 | 2/3/2014 | (S) 1,2 ethanediol reaction products with nonylphenol glycidyl ether.
P-04-0718 | 6/4/2013 | 5/28/2013 | (S) Benzene, methyl-, reaction products with sulfur chloride (s2cl2), hexafluorophosphates(1-).
P-05-0324 | 12/9/2013 | 11/14/2013 | (S) 1,2,3-propanetricarboxylic acid, 2-hydroxy-, cerium(3+) salt (1:1).
P-05-0633 | 3/6/2014 | 2/19/2014 | (G) Alklsubstituted polyalkene glycol monoalklether.
P-06-0391 | 5/20/2014 | 4/30/2014 | (G) Alkyl methacrylate polymer with vinyl aromatic, branched alkyl acrylate, and alkyl methacrylate.
P-06-0409 | 2/18/2014 | 1/22/2014 | (S) Ferrate(1-), bis[4-[[5-chloro-2-(hydroxy-.kappa.o)phenyl]azo-.kappa.n1]-2,4-dihydro-5-methyl-2-phenyl-3h-pyrazol-3-onato(2-)-.kappa.o3]-, hydrogen.
P-06-0410 | 2/4/2014 | 1/15/2014 | (S) Ferrate(1-), bis[4-[[5-chloro-2-(hydroxy-.kappa.o)phenyl]azo-.kappa.n1]-2(3,4-dichlorophenyl)-2,4-dihydro-5-methyl-3h-pyrazol-3-onato(2-)-.kappa.o3]-, hydrogen.
P-06-0458 | 6/5/2013 | 5/22/2013 | (S) 13-docosenoic acid, magnesium salt, (13Z)-.
P-07-0011 | 8/22/2013 | 8/15/2013 | (G) Alkylated phenol.
P-07-0618 | 6/20/2013 | 6/5/2013 | (G) Alkyl acid fluoride.
P-09-0002 | 2/11/2014 | 1/30/2014 | (S) Hexanedioic acid, polymer with 2,′2-oxybis[ethanol], 2-ethylhexyl ester.
P-10-0510 | 4/8/2014 | 3/6/2014 | (G) Fatty acid ester.
P-10-0533 | 7/3/2013 | 6/3/2013 | (G) Styrene/acrylate copolymer.
P-11-0053 | 1/23/2014 | 1/20/2014 | (G) Substituted alkanoic acid polymer with alkanediol and cyclic ether alkanoate.
P-11-0483 | 3/10/2014 | 5/16/2013 | (S) 1-octanethiol, 3,3,4,4,5,5,6,6,7,7,8,8,8-tridecafluoro-.
P-11-0526 | 7/1/2014 | 6/26/2014 | (G) Amphoteric fluorinated surfactant.
P-11-0534 | 5/12/2014 | 5/5/2014 | (G) Polyfluorinated alkyl thio polyacrylic acid-acrylamide.
P-11-0555 | 4/17/2014 | 3/9/2014 | (G) 2-Propenoic acid, 2-methyl-1,1-dimethylethyl ester, polymer with 2,2-dimethyl-1,3-propanediol, ethenylbenzene, 2-ethyl-2-(hydroxymethyl)-1,3-propanediol, cycloaliphatic dicarboxylic anhydride and 1,2-propanediol mono(2-methyl-2-propenoate), bis(1,1-dimethylpropyl)peroxide-initiated.
P-11-0556 | 4/17/2014 | 3/9/2014 | (G) 2-Propenoic acid, 2-methyl-, polymer with 2,2-dimethyl-1,3-propanediol, ethenylbenzene, 2-ethyl-2-(hydroxymethyl)-1,3-propanediol, cycloaliphatic dicarboxylic anhydride, 2-hydroxyethyl 2-methyl-2-propenoate, methyl 2-methyl-2-propenoate and 2-methylpropyl 2-methyl-2-propenoate, 2-hydroxy-3-[(1-oxoneodecy]-oxy]propyl ester.
P-11-0607 | 6/27/2014 | 6/25/2014 | (G) Polyaromatic organophosphorus compound.
P-11-0660 | 4/10/2014 | 4/2/2014 | (G) Co-polymer containing phosphonic sulfonic carboxylic acid groups.
P-12-0061 | 5/29/2014 | 5/15/2014 | (G) Modified acrylic polymer.
P-12-0244 | 5/28/2013 | 5/24/2013 | (S) 1,3-isobenzofurandione, hexahydro-, polymer with 2,2-bis(hydroxymethyl)-1,3-propanediol, 2-butyl-2-ethyl-1,3-propanediol and 2-ethyl-2-(hydroxymethyl)-1,3-propanediol, 3,5,5-trimethylhexanoate.
P-12-0383 | 6/27/2014 | 6/10/2014 | (G) Alkanes.
P-12-0386 | 4/4/2014 | 3/17/2014 | (G) Lightly branched polyester resin.
P-12-0404 | 3/25/2014 | 3/16/2014 | (G) Fluoroalkyl sulfonamide derivate.
P-12-0405 | 4/1/2014 | 3/20/2014 | (S) 1-butanesulfonamide, 1,1,2,2,3,3,4,4,4-nonafluoro-N-(2-hydroxyethyl)-, monoammonium salt.
P-12-0406 | 4/1/2014 | 3/20/2014 | (G) Fluoroalkyl sulfonamide derivate.
P-12-0543 | 3/11/2014 | 2/6/2014 | (S) Alkenes, C23-33, branched and linear.
P-12-0550 | 5/2/2014 | 4/16/2014 | (S) butanal, 4-(heptyloxy)-3-methyl-.
P-13-0088 | 3/28/2014 | 3/12/2014 | (G) 1,4-Benzenedicarboxylic acid, polymer with 2,2-dimethyl-1,3-propanediol alkane diacid, 1,2-ethanediol, hexanedioic acid, alkanediol, alpha, hydro-omega- hydroxpoly[oxy(methyl-1,2-ethanediyl)], 1,3 isobenzfurandione, 1,′-methylbis[4-isocyanatobenzene], 2-oxepanone and 2-2′-oxybis[ethanol].
P-13-0131 | 8/6/2013 | 7/20/2013 | (G) Tertiary ammonium compound.
P-13-0187 | 1/29/2014 | 1/22/2014 | (G) Algal biomass from fermentation.
P-13-0188 | 6/28/2013 | 6/24/2013 | (S) Siloxanes and silicones, dime, e-hydroxypropyl me, ethoxylated, ethers with oligomeric C10-16-alkyl d-glycopyranosides and d-oligomeric decyl octyl d-oligomeric decyl octyl d-glycopry anosides.
P-13-0189 | 8/6/2013 | 7/10/2013 | (G) Depolymerized waste plastics.
P-13-0193 | 5/16/2014 | 4/16/2014 | (G) Amine adduct.
P-13-0214 | 8/30/2013 | 8/21/2013 | (G) Ultra conductive film.
P-13-0223 | 4/9/2014 | 4/3/2014 | (G) Acetopopolene derivative.
P-13-0227 | 4/2/2014 | 3/27/2014 | (S) 2-Butenoic acid, 1-ethyl-2-methylpropyl ester, (2e)-.
P-13-0265 | 6/11/2013 | 5/13/2013 | (S) 2-Propenoic acid, 2-methyl-, butyl ester, polymer with butyl 2-propenoate, ethenylbenzene, 4-hdyroxybutyl 2-propenoate, 2-hydroxyethyl 2-methyl-2-propenoate, methyl 2-methyl-2-propenoate, 2-propenoic acid and rel-(1r,2r,4r)-1,7,7-trimethylbicyclo[2.2.1]hept-2-yl 2-methyl-2-propenoate, tert-bu peroxide-initiated, compounds with triethanolamine.
P-13-0304 | 5/9/2014 | 5/8/2014 | (S) Ethanol, 2,2′-oxybis-,1,1′-diformate.
P-13-0318 | 3/5/2014 | 2/20/2014 | (G) Glycerides, C14-18, C16-C18 unsaturated, from a fermentation.
P-13-0339 | 4/16/2014 | 3/16/2014 | (G) Organometallics, reaction products with silica, halogenated.
P-13-0350 | 4/16/2014 | 3/18/2014 | (G) Organometallic polymerization catalyst.
P-13-0359 | 5/22/2014 | 5/7/2014 | (G) 1,3-isobenzofurandione, polymer with alkanediol, 1,6-hexanediol, .alpha.-hydro-.omega.-hydroxypoly[oxy(methyl-1,2-ethanediyl)], 1,1′-methylenebis[4-isocyanatobenzene] and poly(oxy-alkanediyl) glyceryl ether.
P-13-0360 | 6/6/2014 | 5/31/2014 | (G) Alkane acid, polymer with alkanediol, 1,6-hexanediol, .alpha.-hydro-.omega.-hydroxypoly(oxy-1,4-butanediyl), 1,3-isobenzofurandione, 1,1′-methylenebis[4-isocyanatobenzene] and poly(oxy-alkanediyl) glyceryl ether.
P-13-0361 | 3/28/2014 | 3/5/2014 | (G) Hexandioic acid, polymer with alkanediol, 1,2-ethanediol, 1,6-hexanediol, alpha,- hydro-omega- hydroxpoly [oxy(methyl-1,2-ethanediyl)] and 1′1′-methylenebix [4-isocyanatobenzene].
P-13-0362 | 5/9/2014 | 4/22/2014 | (G) 1,3-benzenedicarboxylic acid, polymer with 1,4-dimethyl 1,4-benzenedicarboxylate, alkanediol, alkane acid, 1,2-ethanediol, hexanedioic acid, 1,6-hexanediol, alkyldiol ester, 1,3-isobenzofurandione, 1,1′-methylenebis[4-isocyanatobenzene], 2-methyloxirane, 2-oxepanone and 2,2′-oxybis[ethanol].
P-13-0369 | 3/7/2014 | 3/3/2014 | (S) Polyphosphoric acids, esters with triethanolamine, compounds. with alkylpyridines.
P-13-0371 | 10/4/2013 | 10/2/2013 | (G) Substituted phenyl sulfonamide compound.
P-13-0372 | 11/7/2013 | 10/26/2013 | (G) Polyether polyurethane.
P-13-0374 | 9/5/2013 | 9/3/2013 | (G) Substituted picolinic acid.
P-13-0394 | 7/3/2014 | 6/23/2014 | (S) Phenol, polymer with 2,2,6-trimethylbicyclo[3.1.1]hept-2-ene, hydrogenated.
P-13-0398 | 3/19/2014 | 3/13/2014 | (S) 9-decenamide, N,N-dimethyl-.
P-13-0412 | 3/12/2014 | 3/11/2014 | (G) Poly(oxy-1-2 ethanediyl alpha poly(xy-1,2,3-propanethiytris [omega, hydroxy,- hydroxyalkyl ether.
P-13-0416 | 4/4/2014 | 3/17/2014 | (G) Linearic aliphatic polycarbonate polyester.
P-13-0421 | 8/27/2013 | 8/13/2013 | (S) 4-7Methano-1H-indene-5-acetaldehyde, octahydro- and 4,7methano- 1H-indene-5-carboxaldehyde, octahydro-6-methyl.
P-13-0422 | 3/5/2014 | 2/20/2014 | (S) Algal biomass from a fermentation process using genetically modified prototheca moriformis.
P-13-0439 | 10/8/2013 | 9/30/2013 | (S) Hexadecanoic acid, 2,2,6,6-tetramethyl-4-piperidinyl ester.
P-13-0442 | 3/28/2014 | 3/3/2014 | (G) 1,3-Benzenedicarboxylic acid polymer with butyl 2-methyl-2 propenoate, hexanediol acid, 1,6 substituted poly[oxy(methyl-1,2-ethanediyl)], 2 hydroxyethyl 2-methyl-2propenoate, 1,1′methylenebix[4-isocyanatobenzene], 2-methyl-2-propenoic acid and 2-oxepanone.
P-13-0444 | 6/5/2014 | 5/22/2014 | (G) 1,3-benzenedicarboxylic acid, polymer with butyl 2-methyl-2-propenoate, alkane acid, hexanedioic acid, 1,6-hexanediol, subsituted poly[oxy(methyl-1,2-ethanediyl)], 2-hydroxyethyl 2-methyl-2-propenoate, 1,1′-methylenebis[4-isocyanatobenzene], methyl 2-methyl-2-propenoate, 2-methyl-2-propenoic acid and 2-oxepanone.
P-13-0446 | 5/13/2014 | 5/7/2014 | (S) Poly(oxy-1,2-ethanediyl), .alpha.,.alpha.′-[[(2-propylheptyl)imino]di-2,1-ethanediyl]bis[.omega.-hydroxy-.
P-13-0451 | 4/24/2014 | 4/23/2014 | (G) Carboxylic methacrylate polymer with akyl acrylate, alkyl methacrylate and alkyl methacrylate.
P-13-0470 | 4/17/2014 | 3/26/2014 | (G) Substituted phenoxy hexyl polymethacrylate.
P-13-0519 | 4/14/2014 | 4/9/2014 | (G) Unsaturated fatty acids, dimers, di-me esters, hydrogenated, polymers with alkyl dioic acid, diisocyanatocycloalkane, hydroxy (hydroxymethyl) alkylcarboxylic acid, methylenebis[isocyanatocycloalkane], alkyl glycol and lactone compound with trialkylamine.
P-13-0556 | 5/16/2014 | 4/30/2014 | (S) 2-cyclopentene-1-acetic acid, ethyl ester.
P-13-0559 | 6/12/2014 | 5/30/2014 | (G) Amine salt of vegetable oil, polymer with cycloaliphatic glycol, hydroxy substituted carboxylic acid, aliphatic diisocyanate and tetra hydroxy alkane.
P-13-0563 | 4/3/2014 | 3/28/2014 | (G) Polyalkylene glycol, alpha isocyanate, omega silane.
P-13-0567 | 11/1/2013 | 9/25/2013 | (G) Ester wax.
P-13-0615 | 11/4/2013 | 10/17/2013 | (G) Alkyl alkanoate.
P-13-0677 | 6/26/2014 | 6/5/2014 | (G) 1,3-dioxolan-2-one, polymer with 1,4-alkanediol, 1,2-alkanediol, 1,1′-alkylenebis[4-substituted monocarbocycle] and 2-alkyl-1,3-alkanediol.
P-13-0724 | 4/24/2014 | 4/16/2014 | (G) Polyurethane prepolymer.
P-13-0771 | 3/10/2014 | 2/24/2014 | (G) Anthraquinone polyamide.
P-13-0835 | 5/13/2014 | 5/7/2014 | (G) Aliphatic polyester polyol.
P-13-0837 | 6/13/2014 | 6/10/2014 | (S) Fatty acids, C18-unsaturated, dimers, polymers with 2,2′-dithiobis[ethanol] and 1-piperazineethanamine.
P-13-0839 | 3/25/2014 | 3/14/2014 | (G) Methanamine, N,N-dimethyl-, reaction products with alkylamine-epichlorohydrin polymer, chlorides.
P-13-0851 | 3/31/2014 | 3/11/2014 | (G) Sulfurized ester.
P-13-0852 | 2/27/2014 | 2/18/2014 | (G) Alkyl dioic acid polymer with poly-(oxyalkyl)-hydro-hydroxy-, and aromatic diisocyanate.
P-13-0854 | 2/28/2014 | 2/11/2014 | (G) Zinc carboxylate salt.
P-13-0858 | 3/25/2014 | 2/24/2014 | (G) Diester.
P-13-0859 | 3/25/2014 | 2/24/2014 | (G) Amide Resin.
P-13-0861 | 3/27/2014 | 3/20/2014 | (G) Alkanedicarboxylic acid, polymer with alkanediol, hydroxy-(hydroxyalkyl)-alkane carboxylic acid and methylenebis[4-isocyanatocycloalkane], compound With dialkylamine.
P-13-0927 | 7/3/2014 | 6/25/2014 | (G) N-(dialkylamino)alkyl-dialkylphenyl-tetrahydrodioxopyrrolopyrrolyl-benzamide.
P-13-0932 | 6/17/2014 | 6/3/2014 | (G) Polyester adduct.
P-13-0935 | 3/17/2014 | 3/13/2014 | (G) Polyisocyanate adduct.
P-13-0947 | 4/18/2014 | 4/1/2014 | (G) Hydroxy functional polyester.
P-13-0953 | 2/27/2014 | 2/5/2014 | (G) Modified refinery stream.
P-14-0006 | 3/7/2014 | 2/17/2014 | (G) Fatty acids, C-18 unsaturated, dimers, polymers with cashew nutshell liq., epichlorohydrin.
P-14-0010 | 3/11/2014 | 3/1/2014 | (G) Alkylchlorosilane.
P-14-0012 | 3/14/2014 | 2/20/2014 | (G) Fatty acid amide.
P-14-0016 | 3/14/2014 | 2/20/2014 | (G) Fatty acid amide.
P-14-0025 | 6/20/2014 | 5/16/2014 | (G) Polyethylene glycol-acrylic polymer salt.
P-14-0028 | 4/15/2014 | 4/14/2014 | (G) Substituted alkene, reaction products with substituted carbomonocycle.
P-14-0033 | 4/22/2014 | 3/24/2014 | (S) Siloxanes and Silicones, di-Me, ethoxy PH, polymers with PH silsesquioxanes, ethoxy-terminated.
P-14-0036 | 4/15/2014 | 4/14/2014 | (G) Substituted alkanoic acid ester, polymer with alkyl substituted alkanoate, substituted carbomonocycle, substituted alkanoates and heteromonocycle, substituted peroxoate-initiated.
P-14-0037 | 4/15/2014 | 4/14/2014 | (G) Substituted alkanoic acid ester, polymer with alkyl substituted alkanoate, substituted carbomonocycle, substituted alkanoates, heteromonocycle and alkanoic acid, substituted peroxoate-initiated, compds with substituted alkanol.
P-14-0040 | 5/22/2014 | 4/24/2014 | (S) Poly(oxy-1,2-ethanediyl),.alpha.-[(4-methylphenyl)sulfonyl]-.omega.-methoxy-.
P-14-0041 | 5/22/2014 | 5/6/2014 | (S) Poly(oxy-1,2-ethanediyl),.alpha.-(2-aminoethyl)-.omega.-methoxy-.
P-14-0044 | 4/24/2014 | 4/19/2014 | (G) Modified ketone resin, sodium salt.
P-14-0045 | 5/19/2014 | 5/17/2014 | (G) Substituted alkanediol, polymer with substituted heteromonocycle and heteromonocycle, alkenoate, reaction products with dialkylamine.
P-14-0051 | 5/16/2014 | 5/10/2014 | (G) Fatty acids, C18-unsatd., dimers, polymers with alkane acid, 1,6-hexanediol, 1,1′-methylenebis[4-isocyanatobenzene] and neopentyl glycol.
P-14-0054 | 6/6/2014 | 6/5/2014 | (G) Amine-functional oligomer.
P-14-0056 | 6/19/2014 | 5/19/2014 | (G) Amine-terminated epoxy resin.
P-14-0060 | 4/8/2014 | 4/2/2014 | (G) 1,1′-methylenebis[isocyanatobenzene], polymer with polycarboxylic acids in alkane polyols.
P-14-0063 | 3/11/2014 | 2/6/2014 | (S) Alkenes, C30-60, branched and linear.
P-14-0071 | 5/22/2014 | 4/30/2014 | (S) Poly(oxy-1,2-ethanediyl), alpha-[2-(1,3-dihydro-1,3-dioxo-2H-isoindol-2-yl)ethyl]-omega-methoxy-.
P-14-0072 | 4/15/2014 | 3/26/2014 | (S) Propaneperoxoic acid, 2,2-dimethyl-, 1,1,3,3-tetramethylbutyl ester.
P-14-0074 | 7/3/2014 | 6/17/2014 | (G) Amino acrylate oligomer.
P-14-0088 | 3/20/2014 | 3/17/2014 | (G) Mixed alkyl dicarboxylic acid esters.
P-14-0089 | 6/23/2014 | 6/17/2014 | (G) Fatty acid amide hydrochloride.
P-14-0090 | 6/23/2014 | 6/17/2014 | (G) Fatty acid amide hydrochloride.
P-14-0109 | 3/24/2014 | 3/25/2014 | (G) 2-propenoic acid, 2-methyl-, ester, polymer with butyl 2-propenoate, ethenyl alkanoate, ethenylbenzene, 2-ethylhexyl 2-propenoate and alkanediol.
P-14-0114 | 5/6/2014 | 5/5/2014 | (G) Waterborne acrylate-functional polyurethane.
P-14-0123 | 7/5/2014 | 6/24/2014 | (G) Reaction product of acrylate and isocyanate.
P-14-0124 | 3/21/2014 | 3/5/2014 | (G) Graft copolymer of polyolefin and polyamide.
P-14-0129 | 6/2/2014 | 5/26/2014 | (S) Propanamide, 2-hydroxy-N,N-dimethyl-.
P-14-0138 | 4/4/2014 | 4/1/2014 | (G) Polycarbonate-based polyurethane resin.
P-14-0141 | 3/28/2014 | 3/14/2014 | (G) Polysilane.
P-14-0144 | 3/21/2014 | 3/18/2014 | (G) 2-alkenoic acid, 2-alkyl-, polymer with 2-substitutedalkyl 2-alkyl-2-alkenoate and alkyl substituted carbomonocycle 2-alkyl-2-alkenoate.
P-14-0146 | 4/15/2014 | 3/19/2014 | (G) Mixed metal fluoride silicide.
P-14-0196 | 6/5/2014 | 6/3/2014 | (G) Poly(oxy-1,2-ethanediyl), .alpha.-sulfo-.omega.-substituted carbomonocycle, ammonium salts.
P-14-0200 | 5/1/2014 | 4/29/2014 | (G) Isocyanate terminated polyurethane resin.
P-14-0216 | 6/11/2014 | 6/5/2014 | (G) Mixed alkyltin mercaptoester sulfides.
P-14-0217 | 6/12/2014 | 6/9/2014 | (G) Mixed alkyltin mercaptoester sulfides.
P-14-0218 | 6/11/2014 | 6/10/2014 | (G) Mixed alkyltin mercaptoester sulfides.
P-14-0219 | 4/22/2014 | 4/8/2014 | (G) Polyurethane dispersion.
P-14-0234 | 6/13/2014 | 6/2/2014 | (G) Trisubstituted ethoxylated carbomonocycle.
P-14-0235 | 6/15/2014 | 6/6/2014 | (G) Styrene-maleic anhydride copolymer, reaction product with amino compounds.
P-14-0236 | 5/20/2014 | 4/25/2014 | (G) Formaldehyde, polymer with substituted carbopolycycle and substituted carbopolycycle.
P-14-0240 | 6/2/2014 | 5/25/2014 | (S) Amines, bis(hydrogenated palm-oil alkyl)hydroxyl.
P-14-0241 | 5/12/2014 | 4/21/2014 | (G) Urethane acrylate.
P-14-0245 | 5/20/2014 | 4/25/2014 | (G) Substituted pyrene, polymer with bis(alkoxyalkyl)carbomonocycle and substituted carbopolycycle.
P-14-0247 | 6/3/2014 | 6/1/2014 | (G) Amine salted polyurethane.
P-14-0248 | 4/17/2014 | 4/17/2014 | (G) Modified essential oil.
P-14-0264 | 5/19/2014 | 5/17/2014 | (S) D-glucopyranose oligomeric, decyl octyl glycosides, 3-(dimethyloctadecylammonio)-2-hydroxypropyl ethers, chlorides, polymers with 1,3-dichloro-2-propanol.
P-14-0265 | 5/29/2014 | 5/18/2014 | (S) D-glucopyranose, oligomeric, C-10-16-alkyl glycosides, (3-dimethyloctadecylammonio)-2-hydroxylpropyl ethers, chlorides, polymers with 1,3-dichloro-2-propanol.
P-14-0269 | 6/13/2014 | 6/9/2014 | (G) Peek-pedek copolymer.
P-14-0288 | 7/7/2014 | 6/11/2014 | (G) Polymer of aliphatic hydrocarbon acrylic acid esters, isocyanic acid derivative and alkyl perester with alkyl amine.
P-14-0313 | 6/18/2014 | 6/3/2014 | (S) Ethanesulfonic acid, 2-[(2-aminoethyl)amino]-, sodium salt (1:1), polymer with 1,6-diisocyanatohexane, alphahydroomega-hydroxypoly(oxy-1,4-butanediyl) and 5-isocyanato-1-(isocyanatomethyl)-1,3,3-trimethylcyclohexane.
P-14-0370 | 6/25/2014 | 6/16/2014 | (G) Acrylic esters and methacrylic esters epoxy resin.
P-14-0381 | 6/4/2014 | 6/2/2014 | (G) 2,5-furandione, polymer with alkyl modified alkene, reaction products with ammonium hydroxide.
P-14-0400 | 6/12/2014 | 6/6/2014 | (G) Substituted acid, electrophilic aromatic substitution products.
P-14-0401 | 6/18/2014 | 6/9/2014 | (S) Fats and glyceridic oils, avocado, esters with polyethylene glycol ether with glycerol (3:1).
P-14-0402 | 6/18/2014 | 6/11/2014 | (S) Coconut oil, ester with polyethylene glycol ether with glycerol (3:1).
P-14-0403 | 6/18/2014 | 6/6/2014 | (S) Olive oil, ester with polyethylene glycol ether with glycerol (3:1).
P-14-0404 | 6/18/2014 | 6/5/2014 | (S) Soybean oil, ester with polyethylene glycol ether with glycerol (3:1).
P-14-0405 | 6/18/2014 | 6/6/2014 | (S) Oils, palm kernel, esters with polyethylene glycol ether with glycerol (3:1).
P-14-0406 | 6/18/2014 | 6/10/2014 | (S) Oils, palm, esters with polyethylene glycol ether with glycerol (3:1).
P-14-0411 | 6/6/2014 | 5/18/2014 | (S) Fats and glyceridic oils, limnanthes alba seed.
P-14-0435 | 7/3/2014 | 7/2/2014 | (G) Substituted fatty acids, polymers with alkanedioic acid, substituted carbomonocycles, alkanediol, substituted alkanoate, compounds with alkylamine.
P-14-0466 | 7/7/2014 | 7/2/2014 | (S) Benzene, 1,4-bis(1-chloro-1-methylethyl)-, reaction products with polyisobutylene, bis[4-[4-[(1-oxo-2-propen-1-yl)oxy]butoxy]phenyl]-terminated.
P-90-1530 | 4/25/2014 | 3/25/2014 | (G) Phosphinicocarboxylates, potassium salts.
P-98-1069 | 6/5/2014 | 5/14/2014 | (G) Polycaprolactone polyols.
P-98-1214 | 6/5/2014 | 6/5/2014 | (G) Epoxidized polyol.
P-99-0009 | 2/14/2014 | 2/13/2014 | (G) Cationic epoxy resin.

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: August 28, 2014.
Chandler Sirmons,
Acting Director, Information Management Division, Office of Pollution Prevention and Toxics.

[FR Doc. 2014-22039 Filed 9-15-14; 8:45 am]

BILLING CODE 6560-50-P